NATIONAL SCIENCE FOUNDATION

Advisory Panel for Cognitive, Psychological and Language Sciences; Notice of Meetings

In accordance with the Federal Advisory Committee Act (Pub. L. 92-463, as amended), the National Science Foundation (NSF) announces the following meetings of the Advisory Panel for Cognitive, Psychological and Language Sciences (#1758);

Date & Time: November 9-10, 2000; 8:30 a.m.-5:00 p.m.

Place: National Science Foundation, 4201 Wilson Blvd, Room 880, Arlington, VA.

Contact Person: Dr. Rodney R. Cocking, Program Director for Child Learning and Development, National Science Foundation, 4201 Wilson Boulevard, Suite 995, Arlington, VA 22230. Telephone: (703) 292-8732.

Agenda: To review and evaluate child learning and development proposals as part of the selection process for awards.

Date & Time: November 29-December 01, 2000; 8:30 a.m.-5:00 p.m.

Place: National Science Foundation, 4201 Wilson Blvd, Room 770, Arlington, VA.

Contact Person: Dr. Joseph L. Young, Program Director for Human Cognition and Perception, National Science Foundation, 4201 Wilson Boulevard, Suite 995, Arlington, VA 22230. Telephone: (703) 292-8732.

Agenda: To review and evaluate human cognition and perception proposals as part of the selection process for awards.

Date & Time: November 30-December 01, 2000; 8:30 a.m.-5:00 p.m.

Place: National Science Foundation, 4201 Wilson Blvd, Room 880, Arlington, VA.

Contact Person: Dr. Steven J. Breckler, Program Director for Social Psychology, National Science Foundation, 4201 Wilson Boulevard, Suite 995, Arlington, VA 22230. Telephone: (703) 292-8728.

Agenda: To review and evaluate social psychology proposals as part of the selection process for awards.

Type of Meetings: Closed.

Purpose of Meetings: To provide advice and recommendations concerning support for research proposals submitted to the NSF for financial support.

Reason for Closing: The proposals being reviewed include information of a proprietary or confidential nature, including technical information; financial data, such as salaries; and personal information concerning individuals associated with the proposals. These matters are exempt under 5 U.S.C. 552b(c), (4) and (6) of the Government in the Sunshine Act.

Dated: October 10, 2000.
Karen J. York,
Committee Management Officer.

[FR Doc. 00-26314 Filed 10-12-00; 8:45 am]

BILLING CODE 7555-01-M